DEPARTMENT OF HEALTH AND HUMAN SERVICES

Administration for Children and Families

[OMB No.: 0970-0427]

Submission for OMB Review; Comment Request

Title: Head Start Program Information Report.

Description: The Office of Head Start within the Administration for Children and Families, United States Department of Health and Human Services, is proposing to renew, with changes, authority to collect information using the Head Start Program Information Report (PIR), monthly enrollment, contacts, and center locations. Changes are primarily to align with the Head Start Program Performance Standards. The PIR provides information about Head Start and Early Head Start services received by the children and families enrolled in Head Start programs. The information collected in the PIR is used to inform the public about these programs, to make periodic reports to Congress about the status of children in Head Start programs as required by the Head Start Act, and to assist the administration and training/technical assistance of Head Start programs. Other program data is used to track enrollment, contact the program, provide a locator for parents to find a nearby program, and for oversight.

Respondents: Head Start and Early Head Start grantees.

Annual Burden Estimates
Instrument | Number of respondents | Number of responses per respondent | Average burden hours per response | Total burden hours
Head Start Program Information Report | 3,404 | 1 | 1 | 3,404
Grantee Monthly Enrollment Reporting | 2,160 | 12 | 0.05 | 1,296
Contacts, Center Locations | 3,404 | 1 | 0.25 | 851

Estimated Total Annual Burden Hours: 5,551.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary B. Jones,
ACF/OPRE Certifying Officer.

[FR Doc. 2019-05737 Filed 3-25-19; 8:45 am]

BILLING CODE 4184-40-P